FEDERAL COMMUNICATIONS COMMISSION

47 CFR Part 1

[FCC 08-209]

Amendment of the Schedule of Application Fees Set

AGENCY: Federal Communications Commission.

ACTION: Correcting amendment.

SUMMARY: In this document, the Commission corrects the language in § 1.1113 (c) which was referenced in the Federal Register publication on January 29, 2009 (74 FR 5107). This document corrects the final regulations by revising § 1.1113 (c).

DATES: Effective June 28, 2010.

FOR FURTHER INFORMATION CONTACT: Roland Helvajian, Office of Managing Director at (202) 418-0444.

SUPPLEMENTARY INFORMATION: This is a correction to the Order FCC 08-209 that was published in the Federal Register on January 29, 2009. Accordingly, this correcting amendment corrects the final regulations by revising the language in § 1.1113 (c) as indicated below.

List of Subjects in 47 CFR Part 1

Administrative practice and procedure.

Federal Communications Commission.
Marlene H. Dortch,
Secretary.

Accordingly, 47 CFR part 1 is corrected by making the following correcting amendments:

PART 1—PRACTICE AND PROCEDURE

1. The authority citation for part 1 continues to read as follows:

Authority: 15 U.S.C. 79 et seq.; 47 U.S.C. 151, 154(i), 154(j), 155, 157, 225, 303(r), and 309.

2. Amend § 1.1113 by revising paragraph (c) to read as follows:

§ 1.1113 Filing locations.

* * * * *

(c) Fees for applications and other filings pertaining to the Wireless Radio Services that are submitted electronically via ULS may be paid electronically or sent to the Commission's lock box bank manually. When paying manually, applicants must include the application file number (assigned by the ULS electronic filing system on FCC Form 159) and submit such number with the payment in order for the Commission to verify that the payment was made. Manual payments must be received no later than ten (10) days after receipt of the application on ULS or the application will be dismissed. Payment received more than ten (10) days after electronic filing of an application on a Bureau/Office electronic filing system (e.g., ULS) will be forfeited (see §§ 1.934 and 1.1111.)

* * * * *

[FR Doc. 2010-15628 Filed 6-25-10; 8:45 am]

BILLING CODE 6712-01-P